DEPARTMENT OF AGRICULTURE

Foreign Agricultural Service

Trade Adjustment Assistance for Farmers

AGENCY: Foreign Agricultural Service, USDA.

ACTION: Notice.

The Administrator, Foreign Agricultural Service (FAS), today accepted a petition, and began a review of a petition, for trade adjustment assistance submitted by the Southern Shrimp Alliance on behalf of shrimpers in Alabama, Florida, Georgia, Louisiana, Mississippi, North Carolina, South Carolina, and Texas. The Administrator will determine within 40 days whether or not increasing imports of shrimp contributed importantly to a greater than 15 percent decrease in the quantity of production of shrimp compared to the average of the 3 preceding marketing years. If a determination is affirmative, shrimpers who land and market shrimp in Alabama, Florida, Georgia, Louisiana, Mississippi, North Carolina, South Carolina, and Texas, will be eligible to apply to the Farm Service Agency for technical assistance at no cost and cash benefits.

FOR FURTHER INFORMATION CONTACT: Trade Adjustment Assistance Staff, FAS, USDA, at (202) 720-0638, or by e-mail at: tradeadjustment@fas.usda.gov. Additional program information can be obtained at the Web site for the Trade Adjustment Assistance for Farmers program. The URL is http://www.fas.usda.gov/itp/taa.

Dated: April 28, 2010.
John D. Brewer,
Administrator, Foreign Agricultural Service.

[FR Doc. 2010-10260 Filed 4-30-10; 8:45 am]

BILLING CODE 3410-10-P